DEPARTMENT OF THE INTERIOR

Fish and Wildlife Service

[FWS-R8-R-2008-N106; 80230-1265-0000-S3]

Ellicott Slough National Wildlife Refuge, Santa Cruz County, CA

AGENCY: Fish and Wildlife Service, Interior.

ACTION: Notice of availability; request for comments: draft comprehensive conservation plan/environmental assessment.

SUMMARY: We, the U.S. Fish and Wildlife Service (Service) announce the availability of a Draft Comprehensive Conservation Plan (CCP) and Environmental Assessment (EA) for the Ellicott Slough National Wildlife Refuge for public review and comment. The CCP/EA, prepared under the National Wildlife Refuge System Improvement Act of 1997, and in accordance with the National Environmental Policy Act of 1969, describes how the Service will manage the Refuge for the next 15 years. Draft compatibility determinations for several existing and proposed public uses are also available for review and public comment.

DATES: To ensure consideration, we must receive your written comments by August 30, 2010.

ADDRESSES: Send your comments or requests for more information by any of the following methods.

E-mail: fw8plancomments@fws.gov. Include “Ellicott Slough CCP” in the subject line of the message.

Fax: Attn: Sandy Osborn, (916) 414-6497.

U.S. Mail: Pacific Southwest Region, Refuge Planning, U.S. Fish and Wildlife Service, 2800 Cottage Way, W-1832, Sacramento, CA 95825-1846.

In-Person Drop-off: You may drop off comments during regular business hours at the above address.

FOR FURTHER INFORMATION CONTACT: Sandy Osborn, Planning Team Leader, at (916) 414-6503, or Diane Kodama, Refuge Manager, at (510) 792-0222 or fw8plancomments@fws.gov. Further information may also be found at http://www.fws.gov/cno/refuges/ellicott/index.cfm.

SUPPLEMENTARY INFORMATION: The National Wildlife Refuge System Improvement Act of 1997 (16 U.S.C. 668dd-668ee), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, environmental education and interpretation.

We initiated the CCP/EA for the Ellicott Slough National Wildlife Refuge in July 2008. At that time and throughout the process, we requested, considered, and incorporated public scoping comments in numerous ways. Our public outreach has included a Federal Register notice of intent published on July 14, 2008 (73 FR 40360), a planning update, and a CCP webpage (http://www.fws.gov/cno/refuges/ellicot/index.cfm). We received two scoping comments during the 30-day public comment period.

Background

Ellicott Slough National Wildlife Refuge was established in 1975 under the Endangered Species Act of 1973 (16 U.S.C. 1531 et seq.) and the Emergency Wetlands Resources Act of 1986 (16 U.S.C. 3901-3932). The nearly 300-acre Ellicott Slough National Wildlife Refuge, located in Santa Cruz County, California, consists of three noncontiguous units within and adjacent to Ellicott Slough and associated watersheds. The Refuge was established to protect the endangered Santa Cruz long-toed salamander by supporting 2 of the 20 known breeding populations of the salamander. Due to the sensitivity of the habitat, the Refuge is currently closed to the public. Through this CCP process, we will determine whether any wildlife-dependent recreational opportunities should be made available to the public.

Alternatives

The Draft CCP/EA identifies and evaluates three alternatives for managing Ellicott Slough National Wildlife Refuge for the next 15 years. The alternative that appears to best meet the Refuge purposes is identified as the preferred alternative. The preferred alternative is identified based on the analysis presented in the Draft CCP/EA, which may be modified following the completion of the public comment period based on comments received from other agencies, Tribal governments, nongovernmental organizations, or individuals.

Under Alternative A, the no action alternative, we would continue to manage the Refuge as we have in the recent past. No major changes in habitat management would occur. The Refuge would remain closed to the public.

With Alternative B (preferred alternative), the Service would standardize the monitoring and surveying program for species, construct and improve breeding and ephemeral pond habitat, identify buffer and corridor habitat for boundary expansion and acquisition, develop weed management and prevention/early detection plans, assess contaminants and disease, conduct climate change modeling, identify additional breeding and aestivation habitat for boundary expansion and acquisition, develop a trail system, expand on-site restoration education with local schools, and develop in-class environmental education in collaboration with partners.

Alternative C includes all actions in Alternative B, plus expanding natural resource surveys, expanding control of additional priority invasive vegetation, propagating and/or reintroducing listed plants, and improving outreach to neighbors and the community.

Public Meetings

The locations, dates, and times of public meetings will be listed in a planning update distributed to the project mailing list and posted on the refuge planning Web site at http://www.fws.gov/cno/refuges/ellicott/index.cfm.

Review and Comment

Copies of the Draft CCP/EA may be obtained by writing to Sandy Osborn (see ADDRESSES). Copies of the Draft CCP/EA may be viewed at the same address or at the San Francisco Bay National Wildlife Refuge Complex, 1 Marshlands Road, Fremont, CA 94536; and the Watsonville Main Public Library, 275 Main Street, Suite 100, Watsonville, CA 95076. The Draft CCP/EA will also be available for viewing and downloading online at: http://www.fws.gov/cno/refuges/ellicot/index.cfm.

Comments on the Draft CCP/EA should be addressed to Sandy Osborn (see ADDRESSES).

At the end of the review and comment period for this Draft CCP/EA, comments will be analyzed by the Service and addressed in the Final CCP/EA. Before including your address, phone number, e-mail address, or other personal identifying information in your comment, you should be aware that your entire comment—including your personal identifying information—may be made publicly available at any time. While you can ask us in your comment to withhold your personal identifying information from public review, we cannot guarantee that we will be able to do so.

Dated: July 22, 2010.
Ken McDermond,
Acting Regional Director, Pacific Southwest Region, Sacramento, California.

[FR Doc. 2010-18459 Filed 7-28-10; 8:45 am]

BILLING CODE 4310-55-P